DEPARTMENT OF THE INTERIOR

National Park Service

[NPS-WASO-NAGPRA-NPS0039001; PPWOCRADN0-PCU00RP14.R50000]

Notice of Intended Repatriation: Wesleyan University, Middletown, CT

AGENCY: National Park Service, Interior.

ACTION: Notice.

SUMMARY: In accordance with the Native American Graves Protection and Repatriation Act (NAGPRA), Wesleyan University intends to repatriate certain cultural items that meet the definition of unassociated funerary objects and that have a cultural affiliation with the Indian Tribes or Native Hawaiian organizations in this notice.

DATES: Repatriation of the cultural items in this notice may occur on or after December 12, 2024.

ADDRESSES: Wendi Field Murray, Wesleyan University (Archaeology & Anthropology Collections), 265 Church Street, Middletown, CT 06033, telephone (860) 685-2085, email wmurray01@wesleyan.edu.

SUPPLEMENTARY INFORMATION: This notice is published as part of the National Park Service's administrative responsibilities under NAGPRA. The determinations in this notice are the sole responsibility of Wesleyan University and additional information on the determinations in this notice, including the results of consultation, can be found in the summary or related records. The National Park Service is not responsible for the determinations in this notice.

Abstract of Information Available

A total of 257 cultural items have been requested for repatriation. The 257 unassociated funerary objects are shell ornaments and beads, stone mortars/vessels, bone tools, digging stick weights, a spherical stone object, a stone pendant, bifacial manos, stone pestles, stone weight/sinker, glass beads, cut shell with ochre, asphaltum skirt weights, shell fishhooks, a bird bone whistle, a stone plummet, stone knives, black chia seeds, and red ochre.

Dos Pueblos, CA

Sixty-four objects, including shell beads and ornaments and one stone pestle, were taken by Paul Schumacher from Dos Pueblos, CA in Santa Barbara County during the 1870s. They were all transferred from the Smithsonian Institution to Wesleyan's natural history museum in 1878.

Santa Barbara County, CA

One hundred-twenty objects originated in Santa Barbara County, CA. They include a stone vessel, a bone tool, asphaltum skirt weights, shell beads, a shell ornament, and an abalone fishhook blank taken by Paul Schumacher in the 1870s; a stone vessel, a digging stick weight, a stone sphere, bifacial manos, shell beads and ornaments, a stone plummet, and stone knives taken by Stephen Bowers in the 1870s; and black chia seeds “from an Indian grave” taken by Lt. George Montague Wheeler sometime prior to 1878. They were all transferred from the Smithsonian Institution to Wesleyan's natural history museum in 1878.

There are two additional objects from Santa Barbara County (a stone pestle and a stone tube pipe) taken by Schumacher and originally included in 1878 transfer paperwork (as well as a 1971 collections inventory) but were discovered to be missing by Wesleyan collections staff in 1999. It has not yet been found, but for future reference this object has the same provenance and cultural affiliation as the Schumacher-related objects listed above.

Santa Cruz Island, CA

Forty-one objects originated in Santa Cruz Island, CA. They include a stone pestle, and shell beads and ornaments taken by Paul Schumacher in the 1870s; and shell beads and ornaments, a shell fishhook, a bone tool, and a bird bone whistle taken by Stephen Bowers in the 1870s. Two of the shell ornaments are not definitively attributed to an individual collector in museum catalog records but are listed as being taken by “Stephen Bowers OR Paul Schumacher.” They were all transferred from the Smithsonian Institution to Wesleyan's natural history museum in 1878.

Santa Rosa Island, CA

Fifteen objects originated in Santa Rosa Island, CA. They include bone tools/implements, stone pestles, and shell beads and ornaments taken by Stephen Bowers in the 1870s. One of the objects (a string of beads) is not definitively attributed to an individual collector in museum catalog records but are listed as being taken by “Stephen Bowers OR Paul Schumacher.” They were all transferred from the Smithsonian Institution to Wesleyan's natural history museum in 1878.

There is one additional object from Santa Rosa Island (glass beads attributed to “Indian graves” in museum catalog records) taken by Bowers and originally included in 1878 transfer paperwork (as well as a 1971 collections inventory) but was discovered to be missing by Wesleyan collections staff in 1999. It has not yet been found, but for future reference this object has the same provenance and cultural affiliation as the Bowers-related objects listed above.

“San Rosa,” CA

Two objects attributed to “San Rosa, CA” in Wesleyan's ethnology records include a polished stone plummet and stone weight/sinker. They were taken by John Waterman sometime prior to 1899, when Wesleyan acquired them. Based on Wesleyan's focus on collections from the Channel Islands during the late 19th century, as well as the museum's cataloging conventions for abbreviating “Santa Rosa Island” in our records to “San Rosa,” these objects are also presumably from Santa Rosa Island, and are consistent with the types of objects likely to be included in Chumash burials.

Santa Ynez, CA

Three objects originating in Santa Ynez, CA include bone tools and strung shell ornaments, were taken by Stephen Bowers in the 1870s. They were all transferred from the Smithsonian Institution to Wesleyan's natural history museum in 1878.

San Luis Obispo, CA

Two objects originating in San Luis Obispo, CA include two strings of shell beads taken by Dr. Hayes in the 1870s and transferred to Wesleyan via a transfer from the Smithsonian Institution in 1878.

Unknown CA, Likely Channel Islands

Three jars of red ochre are likely attributed to the Channel Islands and the collecting activities of Stephen Bowers in the 1870s. They are believed to have been transferred from the Smithsonian Institution to Wesleyan's natural history museum in 1878.

Unknown, California

Three objects, including glass beads and shell beads and ornaments, are from an unknown location in California, but are listed in museum records as being likely connected to the collecting activities of Stephen Bowers and/or Paul Schumacher in the 1870s. They were all likely transferred from the Smithsonian Institution to Wesleyan's natural history museum in 1878.

There is one additional object from California (a stone projectile point) taken by Bowers and originally included in 1878 transfer paperwork (as well as a 1971 collections inventory) but was discovered to be missing by Wesleyan collections staff in 1999. It has not yet been found, but for future reference this object has the same provenance and cultural affiliation as the Bowers-related objects listed above.

Both Stephen Bowers' and Paul Shumacher's collecting was prolific in the Channel Islands and other parts of California during the 1870s—both worked for the Smithsonian and were known to excavate Chumash burials. The looting of Native American burials figures prominently in the documentation of their work via reports and personal journals, making it likely that the items are from funerary contexts. They were initially delivered to the Smithsonian Institution, and in 1878, they were included in a large (Smithsonian) transfer of cultural objects originating in the Channel Islands and other parts of California to Wesleyan University's natural history museum.

For those objects from the Smithsonian attributed to Dr. Hayes and Lt. GM Wheeler, the nature of the objects, the known the timing of their taking, and their association with Wesleyan's bulk acquisition of CA funerary objects from the Smithsonian during the late 19th century make it likely that they are also unassociated funerary objects. Nothing is known about Jonathan Waterman, though the nature of the items suggests that they are likely funerary objects.

No cultural affiliation information was included in the records of the taking or the transfer, though their geographical origin and the well-documented cultural, historical, geographical, and linguistic connections between the claimants and the geographical areas in from which these were taken indicates a cultural affiliation with the Santa Ynez Band of Chumash Indians.

The presence of potentially hazardous substances (i.e., pesticide residues) on these particular objects is unknown. In 2021, Wesleyan University discovered the presence of pesticide residue (arsenic) on one organic object from Samoa that was transferred from the Smithsonian in the 19th century, as well as several taxidermy specimens. This suggests the possibility that other objects in the collection may be contaminated (particularly those transferred from the Smithsonian, as the requested objects are). While pesticides were not typically applied to non-organic objects due to their inherent resilience to pest damage, the objects have potentially been intermingling with organic objects in a large ethnographic teaching collection since the 1870s, and possibly with natural history specimens as well. To what extent Wesleyan staff attempted to mitigate cross-contamination when objects were stored or handled is unknown.

There is one documented instance of pest fumigation relating to the collections that dates to 1972-1973. This was to treat a silverfish infestation in underground storage rooms that held the museum's objects after it closed. The proposal was for the application of dichlorodiphenyltrichloroethane (DDT) to the floors, the placement of open containers of paradichlorobenzene (PDB) around the room, and the placement of a mildew-retarding insecticide inside the wraps of specimens. The specific contents of the room in which the chemicals were applied, and to what extent they were shielded from them, is unknown.

Determinations

Wesleyan University has determined that:

• The 257 unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• There is a reasonable connection between the cultural items described in this notice and the Santa Ynez Band of Chumash Mission Indians of the Santa Ynez Reservation, California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after December 12, 2024. If competing requests for repatriation are received, Wesleyan University must determine the most appropriate requestor prior to repatriation. Requests for joint repatriation of the cultural items are considered a single request and not competing requests. Wesleyan University is responsible for sending a copy of this notice to the Indian Tribes and Native Hawaiian organizations identified in this notice and to any other consulting parties.

Authority: Native American Graves Protection and Repatriation Act, 25 U.S.C. 3004 and the implementing regulations, 43 CFR 10.9.

Dated: October 29, 2024.
Melanie O'Brien,
Manager, National NAGPRA Program.

[FR Doc. 2024-26083 Filed 11-8-24; 8:45 am]

BILLING CODE 4312-52-P